DEPARTMENT OF JUSTICE

Notice of Lodging of Consent Decree Pursuant to the Clean Air Act

In accordance with Department policy, 28 CFR 50.7, notice is hereby given that on April 23, 2014, a Consent Decree in United States v. Virgin Islands Water and Power Authority (“VIWAPA”), Civil Action No. 2-13-CV-00028, was lodged with the United States District Court for the District of the Virgin Islands, St. Croix Division.

The Consent Decree resolves Clean Air Act violations alleged in the Amended Complaint filed by the United States on July 9, 2013. The violations alleged in the Amended Complaint concern VIWAPA's failure to properly operate and/or maintain its water injection systems on its gas turbine units, violation of its PM 10 emissions limits for gas turbine unit 19, failure to perform required audits and maintain required quality data availability, failure to properly operate and calibrate the continuous emission monitoring systems (CEMS) for NOX and Co, and failure to properly record emissions and non-compliance.

The Consent Decree requires VIWAPA to improve its overall operations and maintenance at the St. Croix facility by implementing revised standard operating procedures, a spare parts program to minimize downtime in case of equipment failure, enhanced training and third party and self audits of the water injection system and continuous monitoring systems. The Consent Decree also requires a $700,000 penalty to be paid within two years of the Effective Date of the Consent Decree. The penalty amount was based upon VIWAPA's limited financial ability to pay a penalty.

The Department of Justice will receive, for a period of thirty (30) days from the date of this publication, comments relating to the Consent Decree. Comments should be addressed to the Assistant Attorney General for the Environmental and Natural Resources Division, and should refer to United States v. Virgin Islands Water and Power Authority, DOJ Ref. # 90-5-2-1-10441.

All comments must be submitted no later than thirty days after the publication date of this notice. Comments may be submitted either by email or by mail:

To submit comments: | Send them to:
By email | pubcomment-ees.enrd@usdoj.gov.
By mail | Assistant Attorney General U.S. DOJ—ENRD P.O. Box 7611 Washington, DC 20044-7611

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $22.50 (25 cents per page reproduction cost) payable to the United States Treasury.

Robert E. Maher, Jr.,
Assistant Section Chief, Environmental Enforcement Section, Environmental and Natural Resources Division.

[FR Doc. 2014-09646 Filed 4-28-14; 8:45 am]

BILLING CODE 4410-15-P